COMMISSION ON CIVIL RIGHTS

Sunshine Act Meeting Notice

AGENCY: U.S. Commission on Civil Rights.

ACTION: Announcement of public meeting of Illinois Advisory Committee.

SUMMARY: Notice is hereby given, pursuant to the provisions of the rules and regulations of the U.S. Commission on Civil Rights (Commission) and the Federal Advisory Committee Act that the Illinois Advisory Committee (Committee) will hold a meeting on Friday, May 3, 2019, from 9:00 a.m. to 4:30 p.m. Central Time for the purpose of hearing testimony on fair housing issues in the state.

DATES: Friday, May 3, 2019, at 9:00 a.m. Central Time.

ADDRESSES: Ralph H. Metcalfe Federal Building, 77 W Jackson Blvd., Room 331, Chicago, IL 60604.

FOR FURTHER INFORMATION CONTACT: Alejandro Ventura, Designated Federal Official, at aventura@usccr.gov or 213-894-3437.

SUPPLEMENTARY INFORMATION: This meeting is free and open to the public. Persons with disabilities requiring reasonable accommodations should contact the Midwest Regional Office 10 days prior to the meeting to make appropriate arrangements. Members of the public are invited to make statements during an open comment period, beginning at 3:30 p.m. In addition, members of the public may submit written comments; the comments must be received in the regional office within 30 days following the meeting. Written comments may be mailed to the Midwestern Regional Office, U.S. Commission on Civil Rights, 230 South Dearborn St., Suite 2120, Chicago, IL 60604. They may also be faxed to the Commission at (312) 353-8324, or emailed to Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Illinois Advisory Committee link. Persons interested in the work of this Committee are directed to the Commission's website, http://www.usccr.gov, or may contact the Midwestern Regional Office at the above email or street address.

Agenda

I. Opening Remarks and Introductions (9:00 a.m.-9:30 a.m.)

II. Panelist Briefings (9:30 a.m.-12:00 p.m.)

III. Break (12:00 p.m.-1:00 p.m.)

IV. Panelist Briefings (1:00 p.m.-3:30 p.m.)

V. Public Comments (3:30 p.m.-4:15 p.m.)

VI. Closing Remarks (4:15 p.m.-4:30 p.m.)

Dated: April 11, 2019.
Brian Walch,
Director, Communications and Public Engagement.

[FR Doc. 2019-07570 Filed 4-11-19; 4:15 pm]

BILLING CODE 6335-01-P